SUSQUEHANNA RIVER BASIN COMMISSION

Notice of Public Hearing and Commission Meeting

AGENCY: Susquehanna River Basin Commission.

ACTION: Notice of public hearing and commission meeting.

SUMMARY: The Susquehanna River Basin Commission will hold a public hearing as part of its regular business meeting beginning at 8:30 a.m. on June 18, 2009, in Binghamton, N.Y. At the public hearing, the Commission will consider: (1) Action on certain water resources projects; (2) action on two projects involving diversions; (3) the rescission of one previous docket approval; (4) enforcement actions against three projects; and (5) two requests for an administrative hearing on projects previously approved by the Commission. Details concerning the matters to be addressed at the public hearing and business meeting are contained in the Supplementary Information section of this notice.

DATES: June 18, 2009.

ADDRESSES: Holiday Inn Binghamton-Downtown, 2-8 Hawley Street, Binghamton, NY.

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net.

SUPPLEMENTARY INFORMATION: In addition to the public hearing and its related action items identified below, the business meeting also includes actions or presentations on the following items: (1) Hydrologic conditions of the basin; (2) the SRBC “Priority Management Area” on flooding; (3) presentation of the Maurice K. Goddard award; (4) an Application Fee Policy for Mine Drainage Withdrawals to guide the granting of fee waivers or reductions to projects using water impaired by abandoned mine drainage; (5) proposed rulemaking regarding Federal licensing/re-licensing of projects and other revisions; (6) revision of the FY 2010 budget; (7) adoption of a FY 2011 budget; (8) ratification of a contract agreement; and (9) election of a new Chairman and Vice Chairman to serve in the next fiscal year. The Commission will also hear a Legal Counsel's report.

Public Hearing—Projects Scheduled for Action

1. Project Sponsor and Facility: ALTA Operating Company, LLC (Turner Lake), Liberty Township, Susquehanna County, Pa. Application for surface water withdrawal of up to 0.393 mgd.

2. Project Sponsor and Facility: Charles Header-Laurel Springs Development, Barry Township, Schuylkill County, Pa. Application for groundwater withdrawal of 0.099 mgd from Laurel Springs.

3. Project Sponsor and Facility: Charles Header-Laurel Springs Development, Barry Township, Schuylkill County, Pa. Application for consumptive water use of up to 0.099 mgd.

4. Project Sponsor and Facility: Chesapeake Appalachia, LLC (Chemung River), Athens Township, Bradford County, Pa. Application for surface water withdrawal of up to 0.999 mgd.

5. Project Sponsor and Facility: Chesapeake Appalachia, LLC (Sugar Creek), Burlington Township, Bradford County, Pa. Application for surface water withdrawal of up to 0.499 mgd.

6. Project Sponsor and Facility: Chesapeake Appalachia, LLC (Susquehanna River—Newton), Terry Township, Bradford County, Pa. Application for surface water withdrawal of up to 0.999 mgd.

7. Project Sponsor and Facility: Chesapeake Appalachia, LLC (Susquehanna River—McCarthy), Wyalusing Township, Bradford County, Pa. Application for surface water withdrawal of up to 1.440 mgd.

8. Project Sponsor and Facility: Chesapeake Appalachia, LLC (Towanda Creek—Monroe Hose), Monroe Township, Bradford County, Pa. Application for surface water withdrawal of up to 0.400 mgd.

9. Project Sponsor and Facility: Chesapeake Appalachia, LLC (Towanda Creek—DeCristo), Leroy Township, Bradford County, Pa. Application for surface water withdrawal of up to 0.499 mgd.

10. Project Sponsor and Facility: Chesapeake Appalachia, LLC (Wyalusing Creek—Wells), Wyalusing Borough, Bradford County, Pa. Application for surface water withdrawal of up to 0.999 mgd.

11. Project Sponsor and Facility: Chesapeake Appalachia, LLC (Wyalusing Creek—Vanderfeltz), Rush Township, Susquehanna County, Pa. Application for surface water withdrawal of up to 0.499 mgd.

12. Project Sponsor and Facility: Citrus Energy (Inez Moss Pond), Benton Township, Columbia County, Pa. Application for surface water withdrawal of up to 0.099 mgd.

13. Project Sponsor and Facility: East Resources, Inc. (Tioga River—Greer), Richmond Township, Tioga County, Pa. Application for surface water withdrawal of up to 0.107 mgd.

14. Project Sponsor and Facility: EXCO-North Coast Energy, Inc. (Black Moshannon Creek), Snow Shoe Township, Centre County, Pa. Application for surface water withdrawal of up to 0.140 mgd.

15. Project Sponsor and Facility: EXCO-North Coast Energy, Inc. (East Branch Tunkhannock Creek), Clifford Township, Lackawanna County, Pa. Application for surface water withdrawal of up to 0.130 mgd.

16. Project Sponsor and Facility: EXCO-North Coast Energy, Inc. (Little Muncy Creek—LYC-01, Jordan), Franklin Town, Lycoming County, Pa. Application for surface water withdrawal of up to 0.041 mgd.

17. Project Sponsor and Facility: EXCO-North Coast Energy, Inc. (Little Muncy Creek—LYC-02, Temple), Franklin Town, Lycoming County, Pa. Application for surface water withdrawal of up to 0.091 mgd.

18. Project Sponsor and Facility: EXCO-North Coast Energy, Inc. (South Branch Tunkhannock Creek—WSC), Benton Township, Lackawanna County, Pa. Application for surface water withdrawal of up to 0.091 mgd.

19. Project Sponsor and Facility: EXCO-North Coast Energy, Inc. (West Branch Susquehanna River—Sproul State Forest), Burnside Township, Centre County, Pa. Application for surface water withdrawal of up to 1.080 mgd.

20. Project Sponsor: Exelon Generation Company, LLC. Project Facility: Three Mile Island Generating Station, Unit 1, Londonderry Township, Dauphin County, Pa. Modification to project features of the consumptive water use approval (Docket No. 19950302).

21. Project Sponsor and Facility: Fortuna Energy Inc. (Towanda Creek—Franklin Township Volunteer Fire Department), Franklin Township, Bradford County, Pa. Application for surface water withdrawal of up to 2.000 mgd.

22. Project Sponsor and Facility: Grand Water Rush, LLC (Grand Farm Pond), Dunnstable Township, Clinton County, Pa. Application for surface water withdrawal of up to 0.022 mgd.

23. Project Sponsor and Facility: J-W Operating Company (Abandoned Mine Pool—Unnamed Tributary to Finley Run), Shippen Township, Cameron County, Pa. Application for surface water withdrawal of up to 0.090 mgd.

24. Project Sponsor: Pennsylvania Department of Environmental Protection, Bureau of Abandoned Mine Reclamation. Project Facility: Hollywood AMD Treatment Plant, Huston and Jay Townships, Clearfield and Elk Counties, Pa. Application for groundwater withdrawal of up to 2.890 mgd from six deep mine complexes.

25. Project Sponsor: Pennsylvania Department of Environmental Protection, Bureau of Abandoned Mine Reclamation. Project Facility: Lancashire No. 15 AMD Treatment Plant, Barr Township, Cambria County, Pa. Application for groundwater withdrawal of up to 7.400 mgd from Recovery Wells 1, 2, and 3, and D Seam Discharge.

26. Project Sponsor: PPL Holtwood, LLC. Project Facility: Holtwood Hydroelectric Station, Martic and Conestoga Townships, Lancaster County, and Chanceford and Lower Chanceford Townships, York County, Pa. Applications for redevelopment modifications of its operations on the lower Susquehanna River, including the addition of a second power station and associated infrastructure.

27. Project Sponsor and Facility: Schuylkill County Municipal Authority, Pottsville Public Water Supply System, Mount Laurel Subsystem, Butler Township, Schuylkill County, Pa. Application for a withdrawal of up to 0.432 mgd from the Gordon Well.

28. Project Sponsor and Facility: Southwestern Energy Company (Tunkhannock Creek—Price), Gibson Township, Susquehanna County, Pa. Application for surface water withdrawal of up to 0.380 mgd.

29. Project Sponsor and Facility: Stone Energy Corporation (Wyalusing Creek—Stang 1), Rush Township, Susquehanna County, Pa. Application for surface water withdrawal of up to 0.750 mgd.

30. Project Sponsor and Facility: Stone Energy Corporation (Wyalusing Creek—Stang 2), Rush Township, Susquehanna County, Pa. Application for surface water withdrawal of up to 0.750 mgd.

31. Project Sponsor and Facility: Susquehanna Gas Field Services, L.L.C. (Meshoppen Creek), Meshoppen Borough, Wyoming County, Pa. Application for surface water withdrawal of up to 0.145 mgd.

32. Project Sponsor: Titanium Metals Corporation. Project Facility: Titanium Hearth Technologies, Inc., d.b.a. TIMET North American Operations, Caernarvon Township, Berks County, Pa. Application for groundwater withdrawal of up to 0.099 mgd from Well 1.

33. Project Sponsor: UGI Development Company. Project Facility: Hunlock Power Station, Hunlock Township, Luzerne County, Pa. Application for surface water withdrawal from the Susquehanna River of up to 55.050 mgd.

34. Project Sponsor: UGI Development Company. Project Facility: Hunlock Power Station, Hunlock Township, Luzerne County, Pa. Application for consumptive water use of up to 0.870 mgd.

35. Project Sponsor and Facility: Ultra Resources, Inc. (Elk Run), Gaines Township, Tioga County, Pa. Application for surface water withdrawal of up to 0.021 mgd.

36. Project Sponsor and Facility: Valley Country Club, Sugarloaf Township, Luzerne County, Pa. Applications for groundwater withdrawal of up to 0.090 mgd from the Pumphouse Well and 0.090 mgd from the Shop Well.

Public Hearing—Projects Scheduled for Action Involving a Diversion:

1. Project Sponsor: Pennsylvania Department of Environmental Protection, Bureau of Abandoned Mine Reclamation. Project Facility: Lancashire No. 15 AMD Treatment Plant, Barr Township, Cambria County, Pa. Application for an into-basin diversion of up to 10.000 mgd from the Ohio River Basin.

2. Project Sponsor and Facility: Schuylkill County Municipal Authority, Pottsville Public Water Supply System, Mount Laurel Subsystem, Butler Township, Schuylkill County, Pa. Applications for: (1) An out-of-basin diversion of up to 0.432 mgd to the Delaware River Basin for water supply; and (2) an existing into-basin diversion of up to 0.485 mgd from the Delaware River Basin.

Public Hearing—Projects Scheduled for Rescission Action

1. Project Sponsor: Corning Incorporated. Project Facility: Fall Brook Facility (Docket No. 19960301), Corning, Steuben County, N.Y.

Public Hearing—Enforcement Actions

1. Project Sponsor: Belden & Blake Corporation (EnerVest Operating, LLC). Project Facility: Sturdevant #1 Well, Smithfield Township, Bradford County, Pa.

2. Project Sponsor: Chester County Solid Waste Authority. Project Facility: Lanchester Landfill, Lancaster and Chester Counties, Pa.

3. Project Sponsor: East Resources, Inc. (Tioga River). Project Facility: American Truck Stop Site, Tioga County, Pa.

Public Hearing—Request for Administrative Hearing

1. Petitioner Mark A. Givler; RE: Chief Oil and Gas, Docket No. 20081203, approved December 4, 2008.

2. Petitioner Delta Borough, York County, Pennsylvania; RE: Delta Borough Public Water Supply Well No. DR-2; Docket No. 20090315, approved March 12, 2009.

Opportunity To Appear and Comment

Interested parties may appear at the above hearing to offer written or oral comments to the Commission on any matter on the hearing agenda, or at the business meeting to offer written or oral comments on other matters scheduled for consideration at the business meeting. The chair of the Commission reserves the right to limit oral statements in the interest of time and to otherwise control the course of the hearing and business meeting. Written comments may also be mailed to the Susquehanna River Basin Commission, 1721 North Front Street, Harrisburg, Pennsylvania 17102-2391, or submitted electronically to Richard A. Cairo, General Counsel, e-mail: rcairo@srbc.net or Stephanie L. Richardson, Secretary to the Commission, e-mail: srichardson@srbc.net. Comments mailed or electronically submitted must be received prior to June 16, 2009, to be considered.

Authority: Public Law 91-575, 84 Stat. 1509 et seq., 18 CFR parts 806, 807, and 808.

Dated: May 18, 2009.
Thomas W. Beauduy,
Deputy Director.

[FR Doc. E9-12196 Filed 5-26-09; 8:45 am]

BILLING CODE 7040-01-P